DEPARTMENT OF COMMERCE

National Oceanic and Atmospheric Administration

Proposed Information Collection; Comment Request; Northeast Region Dealer Purchase Reports

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 20, 2005.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Erik Braun, 62 Newtown Lane, East Hampton, NY 11937 (phone (631) 324-3569 or e-mail reporting.ne@noaa.gov).

SUPPLEMENTARY INFORMATION:

I. Abstract

The Federally-permitted dealers in specified fisheries are required to submit information weekly regarding their fish purchases. Other dealers are asked to submit the information on a voluntary basis. A small number of commercial fishermen may also be asked to voluntarily provide information related to the purchase. The information obtained is used by economists, biologists, and managers in the management of the fisheries. NOAA is seeking to renew Paperwork Reduction Act approval for these requirements.

II. Method of Collection

Depending upon the fishery, dealers submit forms on either a mandatory or a voluntary basis. Vessel captains may also be interviewed for related information.

III. Data

OMB Number: 0648-0229.

Form Number: NOAA Form 88-30.

Type of Review: Regular submission.

Affected Public: Business or other for profit organizations, individuals or households.

Estimated Number of Respondents: 631.

Estimated Time Per Response: 4 minutes for a NOAA Form 88-30 or an interview.

Estimated Total Annual Burden Hours: 2,176.

Estimated Total Annual Cost to Public: $345,600.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 16, 2005.
Gwellnar Banks,
Management Analyst, Office of the Chief Information Officer.

[FR Doc. 05-5523 Filed 3-18-05; 8:45 am]

BILLING CODE 3510-22-P